DEPARTMENT OF TRANSPORTATION

Federal Aviation Administration

[Docket No.: FAA-2021-1199: Notice No. NOA-183-21-01]

Agency Information Collection Activities: Requests for Comments; Renewed Approval of Organization Designation Authorization

AGENCY: Federal Aviation Administration (FAA), DOT.

ACTION: Notice and request for comments.

SUMMARY: In accordance with the Paperwork Reduction Act of 1995, the FAA invites public comments about our intention to request the Office of Management and Budget (OMB) approval to renew an information collection. This collection involves organizations applying to perform certification functions on behalf of the FAA, including approving data and issuing various aircraft and organization certificates. The information will be used to determine an applicant's qualifications to perform certification functions as a representative of the FAA Administrator and to authorize organizations to perform those functions.

DATES: Written comments should be submitted by May 11, 2022.

ADDRESSES: Please send written comments:

By Electronic Docket: www.regulations.gov (enter docket number into search field).

By mail: Scott Geddie, Section Manager, Compliance Systems Section, AIR-634, Systems Policy Branch, Policy and Innovation Division, Aircraft Certification Service, Federal Aviation Administration, 6500 S MacArthur Blvd., ARB Building Room 304, Oklahoma City, OK 73169.

FOR FURTHER INFORMATION CONTACT: Scott Geddie, Section Manager, Compliance Systems Section telephone 405-954-6897; scott.geddie@faa.gov.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0704.

Title: Organization Designation Authorization.

Form Numbers: FAA Form 8100-13.

Type of Review: Renewal of an information collection.

Background: The Federal Register Notice with a 60-day comment period soliciting comments on the following collection of information was published on December 27, 2021 (86 FR 73408). 49 U.S.C. Section 44702(d) authorizes the Administrator of the Federal Aviation Administration to delegate to a properly qualified private person functions related to the examination, inspection, and testing necessary to the issuance of certificates. Title 14 of Code of Federal Regulations (CFR) Part 183, Subpart D allows the FAA to appoint organizations as Administrator representatives. As authorized, these organizations perform certification functions on behalf of the FAA. Applications include information about the applicant, the applicant's experience and qualifications, and the authority it seeks. Applications are submitted to the appropriate FAA office responsible for delegating the issuance certificates and approvals and are reviewed by the FAA team assigned to the applicant to determine whether the applicant meets the requirements necessary to be authorized as a representative of the Administrator. Procedures manuals are submitted for applications that are accepted by the FAA and contain the applicant's proposed procedures to be approved by the FAA to ensure that the correct processes are utilized when performing functions on behalf of the FAA as required by part 183 subpart D. These requirements are necessary to manage the various approvals issued by the organization and document approvals issued and must be maintained to address potential future safety issues.

Respondents: This collection involves organizations applying to perform certification functions on behalf of the FAA.

Frequency: Information is collected on occasion.

Estimated Average Burden per Response: 43.5 hours.

Estimated Total Annual Burden: 5,623 hours.

Issued in Oklahoma City, OK, on April 6, 2022.
Scott A. Geddie,
Manager, Compliance Systems, Systems Policy Branch, AIR-630, Policy and Innovation Division.

[FR Doc. 2022-07666 Filed 4-8-22; 8:45 am]

BILLING CODE 4910-13-P